DEPARTMENT OF ENERGY

Federal Energy Regulatory Commission

[Docket No. RP03-39-001]

Enbridge Pipelines (Midla) L.L.C.; Notice of Compliance Filing

December 11, 2002.

Take notice that on December 6, 2002, Enbridge Pipelines (Midla) L.L.C. (Midla) tendered for filing as part of its FERC Gas Tariff, Fifth Revised Volume No. 1, the tariff sheets listed on Appendix A to the filing, to be made effective December 1, 2002.

Midla states that the filing is being made in compliance with the Commission's order dated November 20, 2002 in Docket No. RP03-39-000 wherein Midla was directed to file revised tariff sheets when the Commission issues its orders in Docket Nos. RP00-400-000, et al. and RP02-486-000.

Midla states that copies of its transmittal letter has been provided by First Class mail and/or electronic communication, depending on the method that such party elected to receive such copies, to all affected customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-31740 Filed 12-17-02; 8:45 am]

BILLING CODE 6717-01-P